FEDERAL COMMUNICATIONS COMMISSION

47 CFR Part 73

[MB Docket No. 10-64; RM-11598; DA 11-2008]

Radio Broadcasting Services; Milford, UT

AGENCY: Federal Communications Commission.

ACTION: Final Rule.

SUMMARY: The Audio Division, at the request of Canyon Media Group, LLC, allots FM Channel 288C and deletes FM Channel 285C at Milford, Utah. The allotment change is part of a hybrid rule making and FM application proposal. Channel 288C can be allotted at Milford, consistent with the minimum distance separation requirements of the Commission's rules, at coordinates 38-31-11 NL and 113-17-07 WL, with a site restriction of 27.6 km (17.2 miles) northwest of the community See SUPPLEMENTARY INFORMATION infra.

DATES: Effective January 20, 2012.

FOR FURTHER INFORMATION CONTACT: Deborah Dupont, Media Bureau, (202) 418-2180.

SUPPLEMENTARY INFORMATION: This is a synopsis of the Commission's Report and Order, MB Docket No. 10-64, adopted December 7, 2011, and released December 9, 2011. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4). The Commission will send a copy of this Report and Order in a report to be sent to Congress and the Government Accountability Office pursuant to the Congressional Review Act, see U.S.C. 801(a)(1)(A).

List of Subjects in 47 CFR Part 73

Radio.

Federal Communications Commission.
Nazifa Sawez,
Assistant Chief, Audio Division, Media Bureau.

Final Rule

For the reasons discussed in the preamble, the Federal Communications Commission amends 47 CFR part 73 as follows:

PART 73—RADIO BROADCAST SERVICES

1. The authority citation for part 73 continues to read as follows:

Authority: 47 U.S.C. 154, 303, 334, 336, and 339.

§ 73.202 [Amended]

2. Section 73.202(b), the Table of FM Allotments under Utah, is amended at Milford by removing Channel 285C and adding Channel 288C in its place.

[FR Doc. 2011-32713 Filed 12-20-11; 8:45 am]

BILLING CODE 6712-01-P